FEDERAL COMMUNICATIONS COMMISSION

47 CFR Part 10

[PS Docket No. 07-287; FCC 08-164]

Commercial Mobile Alert System

AGENCY: Federal Communications Commission.

ACTION: Final rule; announcement of effective date.

SUMMARY: In this document, the Commission announces that the Office of Management and Budget (OMB) has approved, for a period of three years, the information collection requirements associated with the Commission's Commercial Mobile Alert System (CMS), Second Report and Order (“CMAS Second Report and Order”). This document is consistent with the CMAS Second Report and Order, which stated that the Commission would publish a document in the Federal Register announcing the effective date of those rules.

DATES: The amendments to 47 CFR 10.350(a)(7) and (b) published at 73 FR 47550, August 14, 2008, are effective July 13, 2012.

FOR FURTHER INFORMATION CONTACT: Leslie Haney, Leslie.Haney@fcc.gov, (202) 418-1002.

SUPPLEMENTARY INFORMATION: This document announces that, on July 22, 2009, OMB approved, for a period of three years, the information collection requirements relating to the Commercial Mobile Alert System rules contained in the Commission's Second Report and Order, FCC 08-164, published at 73 FR 47550, August 14, 2008. The OMB Control Number is 3060-1126. The Commission publishes this document as an announcement of the effective date of the rules. If you have any comments on the burden estimates listed below, or how the Commission can improve the collections and reduce any burdens caused thereby, please contact Judith Boley Herman, Federal Communications Commission, Room 1-B441, 445 12th Street SW., Washington, DC 20554. Please include the OMB Control Number, 3060-1126, in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received final OMB approval on July 22, 2009, for the information collection requirements contained in the modifications to the Commission's rules in 47 CFR part 10.

Under 5 CFR part 1320, an agency may not conduct or sponsor a collection of information unless it displays a current, valid OMB Control Number.

No person shall be subject to any penalty for failing to comply with a collection of information subject to the Paperwork Reduction Act that does not display a current, valid OMB Control Number. The OMB Control Number is 3060-1126.

The foregoing notice is required by the Paperwork Reduction Act of 1995, Public Law 104-13, October 1, 1995, and 44 U.S.C. 3507.

The total annual reporting burdens and costs for the respondents are as follows:

OMB Control Number: 3060-1126.

OMB Approval Date: July 22, 2009.

Expiration Date: July 31, 2012.

Title: Section 10.350, Testing Requirements for the Commercial Mobile Alert System (CMAS).

Form No.: Not applicable.

Respondents: Business or other for-profit entities; Not for profit institutions.

Number of Respondents and Responses: 146 respondents; 1,752 responses.

Estimated Time per Response: 2.5 seconds.

Frequency of Response: Monthly and on occasion reporting requirements and recordkeeping requirement.

Obligation to Respond: Required to obtain or retain benefits. Statutory authority for this information collection is contained in 47 U.S.C. 151, 154(i), 154(j), 154(o), 218, 219, 230, 256, 301, 302(a), 303(f), 303(g), 303(j), 303(r), 403, 621(b)(3), and 621(d).

Total Annual Burden: 2 hours.

Total Annual Cost: N/A.

Nature and Extent of Confidentiality: There is no need for confidentiality with this collection of information.

Needs and Uses: The Commission requested OMB approval of a new information collection in order to obtain the full three-year clearance from them. The approval was received from OMB on July 22, 2009. The Commission's estimates for public burden are described above.

As required by the Warning, Alert, and Response Network (WARN) Act, Public Law 109-347, the Federal Communications Commission adopted final rules to establish a Commercial Mobile Alert System (CMAS), under which the Commercial Mobile Service (CMS) providers may elect to transmit emergency alerts to the public, see Second Report and Order and Further Notice of Proposed Rulemaking, FCC 08-164, 23 FCC Rcd. In order to ensure that the CMAS operates efficiently and effectively, the Commission requires participating CMS providers to receive required monthly test messages initiated by the Federal Alert Gateway Administrator, to test their infrastructure and internal CMAS delivery systems by distributing the monthly message to their CMAS coverage area, and to log the results of the tests. The Commission also requires periodic testing of the interface between the Federal Alert Gateway and each CMS Provider Gateway to ensure the availability and viability of both gateway functions. The CMS Provider Gateways must send an acknowledgement to the Federal Alert Gateway upon receipt of these interface test messages.

The Commission, the Federal Alert Gateway and participating CMS providers will use this information to ensure the continued functioning of the CMAS, thus complying with the WARN Act and the Commission's obligation to promote the safety of life and property through the use of wire and radio communications.

Federal Communications Commission.
Bulah P. Wheeler,
Deputy Manager, Office of the Secretary, Office of Managing Director.

[FR Doc. 2012-17125 Filed 7-12-12; 8:45 am]

BILLING CODE 6712-01-P